DEPARTMENT OF COMMERCE

International Trade Administration

[A-580-809]

Circular Welded Non-Alloy Steel Pipe From the Republic of Korea: Final Results of Antidumping Duty Administrative Review; 2014-2015

AGENCY: Enforcement and Compliance, International Trade Administration, Department of Commerce.

SUMMARY: On December 9, 2016, the Department of Commerce (the Department) published the preliminary results of the administrative review of the antidumping duty order on circular welded non-alloy steel pipe (CWP) from the Republic of Korea (Korea). This review covers one mandatory respondent, Husteel Co., Ltd. (Husteel) and three companies not selected for individual examination, which are listed in the chart under the Finals Results of Review section below. Based on our analysis of the comments received, we continue to find that subject merchandise has been sold at less than normal value.

DATES: Effective June 12, 2017.

FOR FURTHER INFORMATION CONTACT: Joseph Shuler, AD/CVD Operations, Office I, Enforcement and Compliance, International Trade Administration, U.S. Department of Commerce, 1401 Constitution Avenue NW., Washington, DC 20230; telephone (202) 482-1293.

SUPPLEMENTARY INFORMATION:

Background

On December 9, 2016, the Department published the Preliminary Results in the Federal Register.¹ The period of review (POR) is November 1, 2014, through October 31, 2015. We invited interested parties to comment on the Preliminary Results and received case and rebuttal briefs from interested parties.² The Department conducted this administrative review in accordance with section 751 of the Tariff Act of 1930, as amended (the Act).

¹ See Circular Welded Non-Alloy Steel Pipe from the Republic of Korea: Preliminary Results of Antidumping Duty Administrative Review; 2014-2015, 81 FR 89059 (December 9, 2016) (Preliminary Results) and accompanying Preliminary Decision Memorandum.

² See case briefs filed by Husteel Co., Ltd. (Husteel) and Wheatland Tube Company (Wheatland) on January 13, 2017, and rebuttal briefs filed by Husteel and Hyundai Steel Company (Hyundai) on January 25, 2017.

Scope of the Order

The merchandise subject to the order is circular welded non-alloy steel pipe and tube. Imports of the product are currently classifiable in the Harmonized Tariff Schedule of the United States (HTSUS) under subheadings 7306.30.1000, 7306.30.5025, 7306.30.5032, 7306.30.5040, 7306.30.5055, 7306.30.5085, and 7306.30.5090. While the HTSUS subheadings are provided for convenience and customs purposes, the written description is dispositive. A full description of the scope of the order is contained in the Issues and Decission Memorandum.³

³ For a full description of the scope of the order, see “Issues and Decision Memorandum for the Final Results of Antidumping Duty Administrative Review of Circular Welded Non-Alloy Steel Pipe from the Republic of Korea: 2014-2015,” dated concurrently with, and hereby adopted by, this notice (Issues and Decision Memorandum) at 2-3.

Final Determination of No Shipments

In the Preliminary Results, we preliminarily determined that Hyundai had no reviewable transactions during the POR. We continue to find that Hyundai had no reviewable entries during the POR.⁴

⁴ See the Issues and Decision Memorandum at Comment 2 for a full explanation of our analysis.

Analysis of Comments Received

All issues raised in the case and rebuttal briefs by parties in this review are addressed in the Issues and Decision Memorandum. A list of the issues raised is attached to this notice as an Appendix. The Issues and Decision Memorandum is a public document and is on file electronically via Enforcement and Compliance's Antidumping and Countervailing Duty Centralized Electronic Service System (ACCESS). ACCESS is available to registered users at http://access.trade.gov, and is available to all parties in the Central Records Unit, Room B8024 of the main Department of Commerce building. In addition, a complete version of the Issues and Decision Memorandum can be accessed directly on the internet at http://trade.gov/enforcement.

Changes From the Preliminary Results

Based on our analysis of the comments received, we have made certain changes for Husteel since the Preliminary Results. Specifically, we have recalculated Husteel's theoretical weight and corrected several ministerial errors. For further details on the changes we made for these final results, see the Issues and Decision Memorandum and the final analysis memorandum for Husteel dated concurrently with this notice.⁵

⁵ See the Memorandum, “Circular Welded Non-Alloy Steel Pipe from the Republic of Korea: Final Analysis Memorandum for Husteel Co., Ltd.,” dated concurrently with this notice.

Final Results of Review

As a result of this review, we determine that the following weighted-average dumping margins exist for the firms listed below for the period November 1, 2014, through October 31, 2015.

Producer or exporter | Weighted-average dumping margins (percent)
Husteel Co., Ltd | 1.20
AJU Besteel | 1.20
NEXTEEL | 1.20
SeAH Steel Corporation | 1.20

Assessment Rates

Pursuant to section 751(a)(2)(C) of the Act, and 19 CFR 351.212(b)(1), the Department has determined, and U.S. Customs and Border Protection (CBP) shall assess, antidumping duties on all appropriate entries of subject merchandise in accordance with the final results of this review. For Husteel, the company we selected for individual examination, we calculated an importer-specific assessment rates on the basis of the ratio of the total amount of antidumping duties calculated for each importer's examined sales and the total entered value of the sales in accordance with 19 CFR 351.212(b)(1).⁶

⁶ In these final results, the Department applied the assessment rate calculation method adopted in Antidumping Proceedings: Calculation of the Weighted-Average Dumping Margin and Assessment Rate in Certain Antidumping Duty Proceedings; Final Modification, 77 FR 8101 (February 14, 2012).

For entries of subject merchandise during the POR produced by Husteel or Hyundai for which they did not know their merchandise was destined for the United States, we will instruct CBP to liquidate such unreviewed entries at the all-others rate if there is no rate for the intermediate company(ies) involved in the transaction.

For AJU Besteel, NEXTEEL, and SeAH Steel Corporation (the companies not selected for individual examination), we will instruct CBP to apply the rate assigned to them in the final results of this review to all entries of subject merchandise produced and/or exported by these companies.

We intend to issue liquidation instructions to CBP 15 days after publication of the final results of these reviews.

Cash Deposit Requirements

The following cash deposit requirements will be effective upon publication of the notice of final results of this administrative review for all shipments of CWP from Korea entered, or withdrawn from warehouse, for consumption on or after the date of publication as provided by section 751(a)(2) of the Act: (1) The cash deposit rate for the companies listed above will be equal to the weighted-average dumping margins established in the final results of this administrative review; (2) for merchandise exported by producers or exporters not covered in this review but covered in a prior completed segment of the proceeding, the cash deposit rate will continue to be the company-specific rate published for the most recent period; (3) if the exporter is not a firm covered in this review, a prior review, or the original investigation but the producer has been covered in a prior complete segment of this proceeding, the cash deposit rate will be the rate established for the most recent period for the producer of the merchandise; (4) the cash deposit rate for all other producers or exporters will continue to be 4.80 percent, the “all others” rate established in the order.⁷ These cash deposit requirements, when imposed, shall remain in effect until further notice.

⁷ See Notice of Antidumping Duty Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992).

Notification to Importers

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a violation subject to sanction.

This notice is published in accordance with section 751(a)(1) and 777(i)(1) of the Act and 19 CFR 351.221(b)(5).

Dated: June 6, 2017.
Ronald K. Lorentzen,
Acting Assistant Secretary for Enforcement and Compliance.

Appendix I

List of Topics Discussed in the Issues and Decision Memorandum

I. Summary

II. Background

III. Scope of the Order

IV. Discussion of the Issues

Comment 1: Theoretical Weight

Comment 2: Hyundai's Claim of No Shipment

Comment 3: Reporting Period for U.S. and Comparison Market Sales

Comment 4: Programming Codes for Mixed Currencies

Comment 5: Classification of Comparison Market Credit Expenses

VI. Recommendation

[FR Doc. 2017-12105 Filed 6-9-17; 8:45 am]

BILLING CODE 3510-DS-P